DEPARTMENT OF COMMERCE

Foreign-Trade Zones Board

[Order No. 1818]

Expansion of Foreign-Trade Zone 71; Windsor Locks, CT

Pursuant to its authority under the Foreign-Trade Zones Act of June 18, 1934, as amended (19 U.S.C. 81a-81u), the Foreign-Trade Zones Board (the Board) adopts the following Order:

Whereas, the Economic and Industrial Development Commission of Windsor Locks, grantee of Foreign-Trade Zone 71, submitted an application to the Board for authority to expand FTZ 71 to include a site in East Granby/Windsor, Connecticut, within the Hartford Customs and Border Protection port of entry (FTZ Docket 47-2011, filed 7/5/2011);

Whereas, notice inviting public comment has been given in the Federal Register (76 FR 40688-40689, 7/11/2011) and the application has been processed pursuant to the FTZ Act and the Board's regulations; and,

Whereas, the Board adopts the findings and recommendations of the examiner's report, and finds that the requirements of the FTZ Act and the Board's regulations are satisfied, and that the proposal is in the public interest;

Now, therefore, the Board hereby orders:

The application to expand FTZ 71 is approved, subject to the FTZ Act and the Board's regulations, including Section 400.28.

Signed at Washington, DC, this 29th day of February 2012.
Ronald K. Lorentzen,
Acting Assistant Secretary of Commerce for Import Administration, Alternate Chairman, Foreign-Trade Zones Board.

ATTEST:

Andrew McGilvray,
Executive Secretary.

[FR Doc. 2012-6300 Filed 3-14-12; 8:45 am]

BILLING CODE P